DEPARTMENT OF COMMERCE

International Trade Administration

[A-570-045]

1-Hydroxyethylidene-1, 1-Diphosphonic Acid From the People's Republic of China: Notice of Court Decision Not in Harmony With Final Determination and Notice of Amended Final Determination of Antidumping Duty Investigation

AGENCY: Enforcement and Compliance, International Trade Administration, Department of Commerce.

SUMMARY: On December 10, 2019, the United States Court of International Trade (the Court) sustained the final results of redetermination pertaining to the antidumping duty (AD) investigation of 1-Hydroxyethylidene-1, 1-Diphosphonic Acid (HEDP) from the People's Republic of China (China) covering the period July 1, 2015 through December 31, 2015. The Department of Commerce (Commerce) is notifying the public that the final judgment in this case is not in harmony with the results of the final determination and subsequent amended final determination, and that Commerce is amending the final determination with respect to the margin assigned to Nanjing University of Chemical Technology Changzhou Wujin Water Quality Stabilizer Factory and Nantong Uniphos Chemicals Co., Ltd. (collectively, WW Group).

DATES: Applicable December 20, 2019.

FOR FURTHER INFORMATION CONTACT: Raymond Lowman, AD/CVD Operations, Office V, Enforcement and Compliance, International Trade Administration, U.S. Department of Commerce, 1401 Constitution Avenue NW, Washington, DC 20230; telephone: (202) 482-7459.

SUPPLEMENTARY INFORMATION:

Background

On March 23, 2017, Commerce published its Final Determination in the investigation of HEDP from China.¹ On May 18, 2017, Commerce amended the Final Determination to correct ministerial errors.² On May 10, 2018, at the request of Commerce, the Court remanded the Final Determination to Commerce to reconsider two issues: (1) Commerce's use of the financial statement from CYDSA S.A.B. de C.V. (CYDSA) for purposes of calculating surrogate financial ratios, and (2) Commerce's calculation of the surrogate value for ocean freight.³ On remand, Commerce found that reliance on CYDSA's financial statement was appropriate, and revised its ocean freight calculation to ensure that it did not double count certain fees.⁴ On December 10, 2019, the Court sustained Commerce's determination, finding that Commerce's decision that CYDSA's financial statement was the best available information to calculate surrogate financial ratios and Commerce's determination of a surrogate value for ocean freight are supported by substantial evidence and in accordance with the law.⁵

¹ See 1-Hydroxyethylidene-1, 1-Diphosphonic Acid From the Peoples Republic of China: Final Determination of Sales at Less Than Fair Value, 82 FR 14876 (March 23, 2017) (Final Determination), and accompanying Issues and Decision Memorandum.

² See 1-Hydroxyethylidene-1, 1-Diphosphonic Acid From the Peoples Republic of China: Amended Final Determination of Sales at Less Than Fair Value, and Antidumping Duty Order, 82 FR 22807 (May 18, 2017).

³ See Nantong Uniphos Chemicals Co., Ltd., et al. v. United States, CIT Court No. 17-00151, Slip Op. 19-156 (December 10, 2019), at 2 n.2.

⁴ See Final Results of Voluntary Redetermination Pursuant to Remand Nantong Uniphos Chemicals Co., Ltd., et al. v. United States, Consol. Court No. 17-00151 (July 2018) (Final Remand Redetermination).

⁵ See Nantong Uniphos Chemicals Co., Ltd., et al. v. United States, CIT Court No. 17-00151, Slip Op. 19-156 (December 10, 2019).

Timken Notice

In its decision in Timken,⁶ as clarified by Diamond Sawblades,⁷ the Court of Appeals for the Federal Circuit (CAFC) held that, pursuant to section 516A of the Tariff Act of 1930, as amended (the Act), Commerce must publish a notice of a court decision that is not “in harmony” with a Commerce determination and must suspend liquidation of entries pending a “conclusive” court decision. The Court's December 10, 2019 judgment sustaining the Final Remand Redetermination constitutes a final decision of the Court that is not in harmony with Commerce's Final Determination. This notice is published in fulfillment of the publication requirements of Timken.

⁶ See Timken Co., v. United States, 893 F. 2d 337 (Fed. Cir. 1990) (Timken).

⁷ See Diamond Sawblades Mfrs. Coalition v. United States, 626 F. 3d 1374 (Fed. Cir. 2010) (Diamond Sawblades).

Amended Final Determination

Because there is now a final court decision, Commerce is amending its Final Determination with respect to the WW Group. Commerce finds that for the period July 1, 2015 through December 31, 2015, the following dumping margin exists:

Producer | Exporter | Weighted- average dumping margin (Percent)
WW Group | WW Group | 67.66

Cash Deposit Requirements

Because the WW Group does not have a superseding cash deposit rate, i.e., there have been no final results published in a subsequent administrative review for the WW Group, Commerce will issue revised cash deposit instructions to U.S. Customs and Border Protection. Effective December 20, 2019, the cash deposit rate applicable to entries of subject merchandise produced and exported by the WW Group is 67.66 percent.

Notification to Interested Parties

This notice is issued and published in accordance with sections 516A(e), 751(a)(1), and 777(i)(1) of the Act.

Dated: December 18, 2019.
Jeffrey I. Kessler,
Assistant Secretary for Enforcement and Compliance.

[FR Doc. 2019-27934 Filed 12-26-19; 8:45 am]

BILLING CODE 3510-DS-P